DEPARTMENT OF LABOR

Office of Workers' Compensation Programs

Advisory Board on Toxic Substances and Worker Health

ACTION: Extension of Comment Period: List of Candidates for the Advisory Board on Toxic Substances and Worker Health for Part E of the Energy Employees Occupational Illness Compensation Program Act (EEOICPA).

SUMMARY: The Secretary of Labor (Secretary) previously invited interested parties to submit comments regarding the qualifications of potential candidates for membership on the Advisory Board on Toxic Substances and Worker Health for Part E of the Energy Employees Occupational Illness Compensation Program Act (EEOICPA). Notice of the comment period was posted in the Federal Register on October 15, 2015 and may be reviewed at 80 FR 62111. The Office of Workers' Compensation Programs is in receipt of requests from interested parties for an extension of time to provide comments on the candidates listed in the previous notice. In response to these requests, the Secretary now extends the deadline for submission of public comments by an additional 21 days, to November 19, 2015. Although this extension will delay the selection process, we think it is important for the commenters to have the time they requested to comment.

DATES: Public comments must be submitted (postmarked, if sending by mail; submitted electronically; or received, if hand delivered) by November 19, 2015.

FOR FURTHER INFORMATION CONTACT: For questions, contact the Advisory Board's Designated Federal Official, Sam Shellenberger, Office of Workers' Compensation Programs, at shellenberger.sam@dol.gov, or Carrie Rhoads, Office of Workers' Compensation Programs, at rhoads.carrie@dol.gov.

SUPPLEMENTARY INFORMATION: The Advisory Board on Toxic Substances and Worker Health (the Board) is mandated by Section 3687 of EEOICPA. The Secretary of Labor established the Board under this authority and Executive Order 13699 (June 26, 2015) and in accordance with the provisions of the Federal Advisory Committee Act (FACA), as amended, 5 U.S.C. App. 2. The purpose of the Board is to advise the Secretary with respect to: (1) The Site Exposure Matrices (SEM) of the Department of Labor; (2) medical guidance for claims examiners for claims with the EEOICPA program, with respect to the weighing of the medical evidence of claimants; (3) evidentiary requirements for claims under Part B of EEOICPA related to lung disease; and (4) the work of industrial hygienists and staff physicians and consulting physicians of the Department of Labor and reports of such hygienists and physicians to ensure quality, objectivity, and consistency. Candidates who are ultimately appointed to the Advisory Board will serve as Special Government Employees (SGE). As defined in 19 U.S.C. Section 202, an SGE is an officer or employee who is retained, designated, appointed, or employed to perform temporary duties, with or without compensation, for not more than 130 days during any period of 365 consecutive days.

Dated: October 26, 2015.
Leonard J. Howie III,
Director, Office of Workers' Compensation Programs.

[FR Doc. 2015-27641 Filed 10-28-15; 8:45 am]

BILLING CODE 4510-24-P